DEPARTMENT OF JUSTICE

Antitrust Division

Notice Pursuant to the National Cooperative Research and Production Act of 1993—Nano Valley Consortium

Notice is hereby given that, on October 27, 2008, pursuant to Section 6(a) of the National Cooperative Research and Production Act of 1993, 15 U.S.C. 4301 et seq. (“the Act”), Nano Valley Consortium (“NVC”) has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to Section 6(b) of the Act, the identities of the parties to the venture are: National Nanotechnology Manufacturing Center (“NNMC”) , Inc., Swainsboro, GA; Nantero, Inc., Woburn, MA; Phoenix Solutions Co., Minneapolis, MN; J. Jireh Corp., Payson, AZ; Altairnano, Inc., Reno, NV; General Dynamics, Ordnance and Tactical Systems, LeGardeur, Quebec, Canada; Georgia Southern University, Statesboro, GA; PPG Industries, Inc., Allison Park, PA; and Fujifilm Dimatix, Inc., Santa Clara, CA. The general area of NVC's planned activity is development of nanotechnology enabled materials and devices for military and non-military usage.

Patricia A. Brink,
Deputy Director of Operations, Antitrust Division.

[FR Doc. E8-27508 Filed 11-20-08; 8:45 am]

BILLING CODE 4410-11-M